DEPARTMENT OF TRANSPORTATION

Federal Aviation Administration

RIN 2120-AA64

General Aviation Summit; Notice of Public Meeting

AGENCY: Federal Aviation Administration (FAA), Department of Transportation (DOT).

ACTION: Notice of Public Meeting.

SUMMARY: This notice announces a public meeting on the subject of the continued airworthiness of the U.S. general aviation fleet of aircraft. The purpose of the meeting is to gather information and discuss technical issues related to problems associated with the increasing average age of the general aviation fleet. Particular emphasis will be given to actions that have potential to mitigate the inevitable effects of fatigue, corrosion, and deterioration on aging general aviation airplanes.

DATES: The public meeting will be held March 22-23, 2006, starting at 8 a.m. each day, in Kansas City, Missouri. Registration will begin at 8 a.m. on the first day of the meeting.

ADDRESSES: The public meeting will be held at the following location: Doubletree Hotel Overland Park, 10100 College Blvd., Overland Park, Kansas, United States, 66210.

Persons who are unable to attend the meeting may mail their comments to: Federal Aviation Administration, (FAA), Central Region, Small Airplane Directorate, Attention: Mr. Marv Nuss, 901 Locust, Room 301, Kansas City, Missouri 64106. Written comments regarding the subject of this meeting will receive the same consideration as statements made at the public meeting.

FOR FURTHER INFORMATION CONTACT: Mr. Marv Nuss, 901 Locust, Room 301, Kansas City, Missouri 64106; telephone: (816) 329-4117; facsimile: (816) 329-4090; e-mail: marvin.nuss@faa.gov.

SUPPLEMENTARY INFORMATION:

Participation at the Public Meeting

Submit requests to present a statement at the public meeting to Mr. Marv Nuss as listed in the section titled FOR FURTHER INFORMATION CONTACT above. The FAA should receive your requests to present oral statements at the public meeting no later than 10 days prior to the meeting. Include a written summary of oral remarks you would like to present and the estimated time needed for your presentation. Requests received after the date specified above will be scheduled during the meeting if time allows; however, the names of those individuals may not appear on the written agenda. The FAA will prepare an agenda of speakers available at the meeting. To accommodate as many speakers as possible, the amount of time allocated to each speaker may be less than the amount of time requested. Those persons desiring to have audiovisual equipment available should notify the FAA when they request placement on the agenda.

Background

The average airplane in the general aviation fleet of the United States is approximately 35 years old. We expect the average age to continue to rise. By the year 2020, the average general aviation airplane will be almost 50 years old. In 1991, Congress mandated that the FAA establish an Aging Aircraft Program to focus on age-related structural problems for the air carrier fleet. Congress specifically excluded general aviation (GA) aircraft from the mandate. However, the FAA determined that as the GA fleet gets older, there is also concern about ensuring the continued airworthiness of these airplanes. The diversity of the fleet makes dealing with continued airworthiness difficult. The wide variety of designs and uses poses problems unique to GA.

In 2000, the FAA held a public meeting on this subject. Ideas were exchanged and FAA worked with industry to institute several initiatives. However, since that meeting there have been GA fatal accidents caused by the effects of airplane aging. There have also been primary component failures caused by the effects of airplane aging that were discovered before catastrophic failure. The FAA is taking a more proactive role in managing the risk associated with continued airworthiness. The FAA is concerned about issues such as service difficulty experiences and reporting, modification and inspection programs, and continued field support from type certificate holders.

The FAA has determined that in the interest of the public we should hold a public meeting on this subject to share information and gather additional data. Accordingly, the FAA will conduct this public meeting in Kansas City, Missouri.

The FAA anticipates that the agency, industry, and the general public will use the public meeting as a forum to share information, resolve questions, and discuss potential solutions concerning the continued airworthiness of older general aviation airplanes.

Public Meeting Procedures

The FAA has established the following procedures for this meeting:

1. Admission and participation in the public meeting are free. The meeting will be open to all persons who have requested in advance to present statements or who register on the first day of the meeting (between 8 a.m. and 8:30 a.m.). Time availability for presentations and seating will be made according to the order of reservation.

2. Representatives from the FAA will conduct the public meeting. A technical panel of FAA personnel will discuss information presented by participants.

3. The public meeting is intended as a forum to share information and resolve questions concerning the continued airworthiness of older general aviation airplanes. Those sharing information will include industry, the general public, and operators of general aviation aircraft. Participants must limit their presentations to the issue of continued airworthiness of older general aviation airplanes.

4. All interested parties will have the opportunity to present any additional information not currently available to the FAA. The FAA will then have the opportunity to explain the methodology and technical assumptions supporting its current observations.

5. FAA personnel, industry, and public participants may engage in a full discussion of all technical material presented at the meeting. Anyone presenting conclusions will be expected to submit their supporting data to the FAA.

6. The FAA will try to accommodate all speakers. Time may be limited for each presentation.

7. Sign and oral interpretations will be made available at the meeting, including assistive listening devices, if requested 15 calendar days before the meeting.

8. A court reporter will record the meeting (except for any breakout sessions). Any person interested in purchasing a copy of the transcript should contact the court reporter directly. This information will be available at the meeting.

9. The FAA will review and consider all material presented by participants at the public meeting. Position papers or material presenting views or information related to the subject of the meeting may be accepted at the discretion of the presiding officer. The FAA requests that persons participating in the meeting provide 10 copies of all materials to be presented for distribution to the panel members; other copies may be provided to the audience at the discretion of the participant.

10. Statements made by FAA personnel are intended to facilitate discussion of the issues or to clarify issues.

11. The meeting is designed to share information and solicit public views and additional information. The meeting will be conducted in an informal and nonadversarial manner.

Issued in Kansas City, Missouri, on January 18, 2006.
David R. Showers,
Acting Manager, Small Airplane Directorate, Aircraft Certification Service.

[FR Doc. E6-1021 Filed 1-26-06; 8:45 am]

BILLING CODE 4910-13-P